CONSUMER PRODUCT SAFETY COMMISSION

[Docket No. CPSC-2017-0027 ]

CPSC Workshop on Recall Effectiveness

AGENCY: Consumer Product Safety Commission.

ACTION: Announcement of meeting.

SUMMARY: The Consumer Product Safety Commission (CPSC, Commission, or we) staff is holding a workshop on potential ways to improve the effectiveness of consumer product recalls. We invite interested parties to attend the workshop.

DATES: The workshop will be held from 10 a.m. to 3 p.m. on July 25, 2017. Individuals interested in attending the workshop should register by July 3, 2017. Suggestions for additional topics for the workshop should be submitted by June 23, 2017.

ADDRESSES: The workshop will be held in the Hearing Room at CPSC's headquarters at: 4330 East West Highway, Bethesda, MD 20814. There is no charge to attend the workshop. Persons interested in attending the workshop should register online at: https://cpsc.gov/content/cpsc-workshop-on-recall-effectiveness.

If you have suggestions for additional topics for the workshop, please submit them to jfwilliams@cpsc.gov by June 23, 2017.

FOR FURTHER INFORMATION CONTACT: Joseph Williams, Compliance Officer, Office of Compliance and Field Operations, Consumer Product Safety Commission, 4330 East-West Highway, Bethesda, MD 20814; telephone 301-504-7585; email: jfwilliams@cpsc.gov.

SUPPLEMENTARY INFORMATION:

I. Background

The Consumer Product Safety Commission (CPSC) has the authority to require corrective actions, also called “recalls,” of consumer products that present a substantial product hazard. 15 U.S.C. 2064(c). Most recalls of consumer products are conducted voluntarily by firms that work with the CPSC to develop a corrective action plan that will protect the public from potentially unsafe products. Recalls generally include notice to the public and some remedial measure, such as repair or replacement of the product or refund to the purchaser. The CPSC's regulations at 16 CFR 1115.20 and its Recall Handbook, https://www.cpsc.gov/s3fs-public/8002.pdf, provide information about working with CPSC to conduct recalls.

The CPSC continually strives to enhance the effectiveness of recalls. In furtherance of this goal, CPSC will hold a workshop to engage stakeholders to explore ideas for improving the effectiveness of recalls.

II. The Workshop

The goal of the workshop is to explore and develop proactive measures CPSC and stakeholders can take to improve recall effectiveness, i.e. the effective implementation of recalls from public announcement to product correction.

We have identified some broad topics for discussion, but would also like to include topics that stakeholders believe would be beneficial to discuss. The workshop will have a group discussion of what makes an effective recall, how to measure success, as well as some common obstacles. We will then break out into smaller groups for discussion of topics such as:

• Communicating the hazard

challenges

possibility of different approaches for different demographics

evaluation of various communication channels

Statutory/regulatory framework and enhanced authorities

• Consumer motivation

incentives

ways to improve consumers' motivation to participate in recalls

challenges

• In-store notification

types available

barriers to effectiveness

ways to improve effectiveness

• Social media

current popular platforms

increasing effectiveness of posts about recalls

barriers to effective use

use of paid advertising on social media

• Other forms of notice (push notifications, email, paid advertising, direct mail, etc.)

possible types of notification

what makes them effective

barriers to effectiveness

how to create direct mailing lists/registrations

targeted notices (e.g., posters at pediatricians, community centers)

If you would like to suggest topics for discussion, please submit them as indicated in the ADDRESSES section of this document by June 23, 2017.

We anticipate that, after the workshop, staff will (1) develop a list of suggestions and ideas from stakeholders that we will share; and (2) create a summary report on key findings and suggestions for follow up.

Dated: June 8, 2017.
Todd A. Stevenson,
Secretary, U.S. Consumer Product Safety Commission.

[FR Doc. 2017-12185 Filed 6-12-17; 8:45 am]

BILLING CODE 6355-01-P